NUCLEAR REGULATORY COMMISSION

Final Regulatory Guides: Issuance, Availability

AGENCY: Nuclear Regulatory Commission.

ACTION: Issuance, Availability of Regulatory Guides 1.84, 1.147, and 1.193.

FOR FURTHER INFORMATION CONTACT: Wallace E. Norris, U.S. Nuclear Regulatory Commission, Washington, DC 20555-0001, telephone (301) 415-6796 or e-mail to WEN@nrc.gov.

SUPPLEMENTARY INFORMATION: The U.S. Nuclear Regulatory Commission (NRC) has issued revisions to existing guides in the agency's “Regulatory Guide” series. This series was developed to describe and make available to the public information such as methods that are acceptable to the NRC staff for implementing specific parts of the agency's regulations, techniques that the staff uses in evaluating specific problems or postulated accidents, and data that the staff needs in its review of applications for permits and licenses.

Revision 34 of Regulatory Guide 1.84, “Design, Fabrication, and Materials Code Case Acceptability, ASME Section III,” lists all Section III Code Cases that the NRC has approved for use. For Revision 34 of the guide, the NRC staff reviewed the Section III Code Cases listed in Supplements 7-12 to the 2001 Edition of the American Society of Mechanical Engineers (ASME) Boiler and Pressure Vessel (BPV) Code and Supplement 1 to the 2004 Edition. Appendix A to this guide lists the supplements reviewed, the applicable edition, and the date on which each supplement was approved by the ASME Board on Nuclear Codes and Standards. Appendix B is a list of the Section III Code Cases addressed in the seven supplements. Finally, Appendix C is a current list of all Section III Code Cases.

In October 2006, the NRC published a draft of this guide as Draft Regulatory Guide (DG)-1133. The public comment period closed on January 2, 2007. The staff's responses to the public comments are located in the NRC's Agencywide Documents Access and Management System (ADAMS), Accession Number ML072080205.

For Revision 15 of Regulatory Guide 1.147, “Inservice Inspection Code Case Acceptability, ASME Section XI, Division I,” the NRC staff reviewed the Section XI Code Cases listed in Supplements 7-12 to the 2001 Edition, and Supplement 1 to the 2004 Edition of the ASME BPV Code. Appendix A to this guide lists the supplements reviewed, the edition, the supplement number, and the date on which the supplement was approved by the ASME Board on Nuclear Codes and Standards. Appendix B is a list of the Section XI Code Cases published by the ASME in the seven supplements. Finally, Appendix C is a current list of all Section XI Code Cases.

Code cases approved by the NRC may be used voluntarily by licensees as an alternative to compliance with ASME Code provisions incorporated by reference into Title 10 of the Code of Federal Regulations (10 CFR) Section 50.55a.

In October 2006, the NRC published proposed Revision 15 as DG-1134. The public comment period closed on January 2, 2007. The staff's responses to the public comments are located in the NRC's ADAMS, Accession Number ML072080205.

Revision 2 of Regulatory Guide 1.193, “ASME Code Cases Not Approved for Use,” lists the code cases that the NRC determined unacceptable for use on a generic basis. Licensees may request NRC approval to implement one or more of the code cases listed in Revision 2 of Regulatory Guide 1.193, as provided in 10 CFR 50.55a(a)(3), which permits the use of alternatives to the code requirements referenced in 10 CFR 50.55a, provided the proposed alternatives result in an acceptable level of quality and safety. To do so licensees must submit a plant-specific request that addresses the NRC's concerns about the code case at issue.

On May 19, 2006, the NRC published a draft of this guide as DG-1135. The public comment period closed on July 14, 2006, and no comments were received. However, changes made to Regulatory Guides 1.84 and 1.147 resulted in changes to Regulatory Guide 1.193.

Electronic copies of Regulatory Guides 1.84, 1.147 and 1.193 are available through the NRC's public Web site under “Regulatory Guides” at http://www.nrc.gov/reading-rm/doc-collections/.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov.

Regulatory guides are not copyrighted, and NRC approval is not required to reproduce them.

Dated at Rockville, Maryland, this 5th day of October, 2007.
For the Nuclear Regulatory Commission.
Brian W. Sheron,
Director, Office of Nuclear Regulatory Research.

[FR Doc. E7-21017 Filed 10-24-07; 8:45 am]

BILLING CODE 7590-01-P